DEPARTMENT OF DEFENSE

Department of the Army

Privacy Act of 1974; System of Records; correction

AGENCY: Department of the Army, DoD

ACTION: Notice to amend system of records; correction.

SUMMARY: The Department of Defense published a document in the Federal Register of February 25, 2005, the Department of the Army is proposing to amend the Preamble to its Compilation of Privacy Act systems of records notices by updating the telephone number of the Point of Contact. The point of contact and phone number is incorrect.

FOR FURTHER INFORMATION CONTACT: Ms. Janice Thornton at (703) 428-6497.

Correction

In the Federal Register of February 25, 2005, in FR Doc. 25fe05-61, on pages 9289, in the first column, correct the “Point of Contact” to read:

“ Point of Contact: Ms. Janice Thornton at 703-428-6497; DSN: 328-6497.”

Dated: February 28, 2005.
Jeannette Owings-Ballard,
OSD Federal Register Liaison Officer, Department of Defense.

[FR Doc. 05-4373 Filed 3-4-05; 8:45 am]

BILLING CODE 5001-06-M